NATIONAL SCIENCE FOUNDATION

Publication of the Draft Environmental Impact Statement (DEIS) for the Advanced Technology Solar Telescope (ATST) at the Haleakalā High Altitude Observatory (HO) Site, Haleakalā, Island of Maui, Hawai'i

AGENCY: National Science Foundation.

ACTION: Notice—Draft Environmental Impact Statement.

SUMMARY: The National Science Foundation (NSF) has prepared a Draft Environmental Impact Statement (DEIS) for the proposed Advanced Technology Solar Telescope (ATST) Project. This joint DEIS is prepared in compliance with the Federal National Environmental Policy Act (NEPA) and the State of Hawai'i Chapter 343, Hawai'i Revised Statutes (HRS). The NSF, through an award to the National Solar Observatory (NSO), plans to fund construction of the proposed ATST at the University of Hawai'i Institute for Astronomy (IfA), Haleakalā High Altitude Observatory (HO) site, on the Island of Maui, Hawai'i. An extensive campaign of worldwide site testing has identified Haleakalā Observatory as the optimal location for this next-generation solar observing facility. The telescope enclosure and a support facility would be placed at one of two identified sites within the existing observatory boundaries. The DEIS addresses the multi-year selection process of these sites and the potential environmental impacts of on-site construction, installation, and operation of this proposed new solar telescope. With its unprecedented 4.2-m (165-inch) aperture, advanced optical technology, and state-of-the-art instrumentation, the proposed ATST would be an indispensable tool for exploring and understanding physical processes on the sun that ultimately affect Earth. The DEIS addresses, among other things, the potential direct, indirect, and cumulative environmental impacts associated with the proposed Advanced Technology Solar Telescope project.

Written comments may be forwarded to:

ADDRESSES: Dr. Craig B. Foltz, Program Manager, National Science Foundation, Division of Astronomical Sciences, 4201 Wilson Blvd., Room 1045, Washington DC 22230, telephone: (703) 292-4909, fax: (730) 292-9034, e-mail: cfoltz@nsf.gov.

SUPPLEMENTARY INFORMATION:

Proposed alternatives to be considered include, but are not limited to the following:

(1) Alternative 1 (Proposed Action): Undeveloped site East of Mees Observatory.

(2) Alternative 2: Former radio telescope site known as Reber Circle.

(3) Alternative 3: No-Action. The National Science Foundation will not construct the Advanced Technology Solar Telescope on Maui.

Publication of the DEIS does not foreclose consideration of any courses of action or possible decisions addressed by the National Science Foundation in its Final Environmental Impact Statement (FEIS). No final decisions will be made regarding construction of the ATST prior to completion and signature of the Record of Decision for the Proposed Action.

Public Comment Period: The NSF welcomes and invites Federal, State, and local agencies, and the public to participate in the 45-day comment period for the completion of this EIS. The 45-day public comment period begins September 8, 2006, and ends on October 23, 2006. Public comment meetings will take place on the island of Maui, Hawai'i, with notification of the times and locations published in the local newspapers, as follows:

1. Cameron Center Auditorium, September 27, 2006, Wednesday, 6 p.m. to 10 p.m.

2. Hannibal Tavares Community Center, Multi-purpose Room, September 28, 2006, Thursday, 6 p.m. to 10 p.m.

3. Kula Community Center, September 29, 2006, Friday, 6 p.m. to 10 p.m.

Written comments may be submitted to Dr. Craig B. Foltz at the address above.

Dated: August 23, 2006.
Craig B. Foltz,
ATST Program Officer.

[FR Doc. 06-7429 Filed 9-5-06; 8:45 am]

BILLING CODE 7555-01-M